DEPARTMENT OF TRANSPORTATION

Federal Aviation Administration

Twenty Fifth RTCA SC-222 AMS(R)S Systems New Air-Ground Data Link Technologies Related to SATCOM

AGENCY: Federal Aviation Administration (FAA), U.S. Department of Transportation (DOT).

ACTION: Twenty Fifth RTCA SC-222 AMS(R)S Systems New Air-Ground Data Link Technologies related to SATCOM.

SUMMARY: The FAA is issuing this notice to advise the public of a meeting of Twenty Fifth RTCA SC-222 AMS(R)S Systems New Air-Ground Data Link Technologies related to SATCOM.

DATES: The meeting will be held January 23, 2017 09:00 a.m.-05:00 p.m. and January 24, 09:00 a.m.-12:00 p.m.

ADDRESSES: The meeting will be held virtually. Please contact Karan Hofman at khofmann@rtca.org or 202-330-0680 to register for the meeting and to receive information on attending.

FOR FURTHER INFORMATION CONTACT: Karan Hofmann at khofmann@rtca.org or 202-330-0680, or The RTCA Secretariat, 1150 18th Street NW., Suite 910, Washington, DC 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of the Twenty Fifth RTCA SC-222 AMS(R)S Systems New Air-Ground Data Link Technologies related to SATCOM. The agenda will include the following:

Monday, January 23, 2017—9:00 a.m.-5:00 p.m. and Tuesday, January 24, 2017—09:00 a.m.-12:00 p.m. (if needed)

All times are Eastern Standard Time (UTC-5)

1. Welcome, Introductions, Administrative Remarks

2. Agenda Overview

3. Review/Approve prior Plenary Meeting Summary—(action item status)

4. Brief Status of Related Efforts (as necessary)

5. Additional Pre-publication Modifications to DO-262C MOPS (HONEYWELL)

6. Information related to the work of SC-228 regarding use of L-Band SATCOM in UAS application

7. Iridium NEXT/CERTUS Technical Details (IRIDIUM)

8. Potential Work/Impact related to new ATCt Proposal (LIGADO)

9. Other business related to AMS(R)S

10. Establish Agenda, Date and Place

11. Review of Action Items

12. Adjourn—Plenary meeting

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on December 20, 2016.
Mohannad Dawoud,
Management & Program Analyst, Partnership Contracts Branch, ANG-A17, NextGen, Procurement Services Division, Federal Aviation Administration.

[FR Doc. 2016-31020 Filed 12-22-16; 8:45 am]

BILLING CODE 4910-13-P